DEPARTMENT OF ENERGY

Federal Energy Regulatory Commission

[Docket No. ER00-1737-004, et al.]

Virginia Electric and Power Company, et al.; Electric Rate and Corporate Filings

March 26, 2003.

The following filings have been made with the Commission. The filings are listed in ascending order within each docket classification.

1. Virginia Electric and Power Company

[Docket No. ER00-1737-004]

Take notice that, on March 24, 2003, Dominion Resources, Inc. (DRI) submitted a three-year market update for its regulated subsidiary, Virginia Electric and Power Company (Dominion Virginia Power), which has the authorization to sell power at market-based rates for sales outside its service territory. DRI asks that the next three-year update for Dominion Virginia Power be due three years from the date of acceptance of this filing.

Comment Date: April 14, 2003.

2. New York Independent System Operator, Inc.

[Docket No. ER03-18-001]

Take notice that on March 21, 2003, the New York Independent System Operator, Inc. (NYISO) together with Astoria Generating Company, L.P. (Astoria) and Consolidated Edison Company of New York, Inc. (Con Edison) jointly tendered for filing a compliance filing in connection with the Commission's December 3, 2002, Order Rejecting Proposed Tariff in the above-referenced docket.

NYISO states that copies of this filing have been served on all parties listed on the official service list maintained by the Secretary of the Commission in these proceedings. The NYISO states that they have also served a copy of this filing to all parties that have executed Service Agreements under the NYISO's Open-Access Transmission Tariff or Services Tariff, the New York State Public Service Commission, and to the electric utility regulatory agencies in New Jersey and Pennsylvania.

Comment Date: April 11, 2003.

3. Midwest Independent Transmission System Operator, Inc.

[Docket

Nos. ER03-366-003 and ER03-368-004]

Take notice that on March 24, 2003, the Midwest Independent Transmission System Operator, Inc. (Midwest ISO) tendered for filing with the Federal Energy Regulatory Commission (Commission) proposed revisions to the Midwest ISO Open Access Transmission Tariff (Tariff), FERC Electric Tariff, Second Revised Volume No. 1, in compliance with the Commission's Order in Midwest Independent Transmission System Operator, Inc., 102 FERC ¶ 61,181. The Midwest ISO respectfully requests that the Commission grant the original effective date of January 1, 2003, for the proposed revisions to the Midwest ISO Tariff submitted herewith.

The Midwest ISO states it has served copies of its filing on all affected customers. In addition, the Midwest ISO also states, that it has electronically served a copy of this filing, without attachments, upon all Midwest ISO Members, Member representatives of Transmission Owners and Non-Transmission Owners, the Midwest ISO Advisory Committee participants, Policy Subcommittee participant, as well as all state commissions within the region. In addition, Midwest ISO advises that the filing has been electronically posted on the Midwest ISO's Web site at http://www.midwestiso.org under the heading “Filings to FERC” for other interested parties in this matter. The Midwest ISO states that it will provide hard copies to any interested parties upon request.

Comment Date: April 14, 2003.

4. Midwest Independent Transmission System Operator, Inc.

[Docket No. ER03-422-002]

Take notice that on March 24, 2003, the Midwest Independent Transmission System Operator, Inc., (Midwest ISO) tendered for filing proposed revisions to Schedule 10 (ISO Cost Recovery Adder) of the Midwest ISO Open Access Transmission Tariff, FERC Electric Tariff, Second Revised Volume No. 1. The Midwest ISO requests an effective date of March 25, 2003.

The Midwest ISO has requested waiver of the requirements set forth in 18 CFR 385.2010. The Midwest ISO states it has electronically served a copy of this filing, with attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter.

Comment Date: April 14, 2003.

5. DTE East China, LLC; DTE Energy Trading, Inc.

[Docket No. ER03-470-001]

Take notice that on March 24, 2003, DTE East China, LLC and DTE Energy Trading, Inc., tendered for filing a compliance filing pursuant to the Commission's Order dated February 28, 2003, in the above-captioned docket.

Comment Date: April 14, 2003.

6. Westar Energy, Inc.

[Docket ER03-578-001]

Take notice that on March 24, 2003, Kansas Gas & Electric Company, Inc. and Westar Energy, Inc. (collectively Westar) submitted for filing First Revised Sheet No. 1 for Rate Schedule FERC Nos.166, 167, 210, 212 and 246, in the format required by Order 614.

Westar states that copies of this filing were served on the City of Iola, Kansas; City of Fredonia, Kansas; City of Waterville, Kansas; City of Scranton, Kansas; City of Alma, Kansas and the Kansas Corporation Commission.

Comment Date: April 14, 2003.

7. Duke Energy St. Lucie, LLC

[Docket No. ER03-643-000]

Take notice that, on March 24, 2003, Duke Energy St. Lucie, LLC, tendered for filing a Notice of Cancellation pursuant to 18 CFR 35.15, in order to reflect the cancellation of its market-based rate tariff, designated as FERC Electric Tariff, Original Volume No. 1, originally accepted for filing in Docket No. ER00-2225-000.

Comment Date: April 24, 2003.

8. Southern California Edison Company

[Docket No. ER03-644-000]

Take notice that on March 24, 2003, Southern California Edison Company (SCE) tendered for filing a revised Reliability Management System Agreement (Revised RMS Agreement) between SCE and High Desert Power Project, LLC (HDPP). SCE respectfully requests the Revised RMS Agreement to become effective on April 18, 2003. SCE states that the Revised RMS Agreement supersedes in its entirety the Reliability Management System Agreement between SCE and High Desert Power Trust (HDPT) which previously has been accepted for filing by the Commission as FERC Electric Tariff, First Revised Original Volume No. 6, Service Agreement No. 14 (Existing RMS Agreement). SCE states that the only substantive difference between the Existing RMS Agreement and the Revised RMS Agreement is the contracting party.

SCE states that the Revised RMS Agreement sets forth terms and conditions intended to maintain the reliable operation of the Western Interconnection through the generator's commitment to comply with certain reliability standards.SCE also states, that copies of this filing were served upon the Public Utilities Commission of the State of California and HDPP.

Comment Date: April 14, 2003.

9. Duquesne Light Company

[Docket No. ER03-645-000]

Take notice that on March 24, 2003, Duquesne Light Company tendered for filing amendments to its Open Access Transmission Tariff to implement revised credit review procedures for transmission customers.

Comment Date: April 14, 2003.

10. MidAmerican Energy Company

[Docket No. ER03-646-000]

Take notice that on March 24, 2003, MidAmerican Energy Company (MidAmerican), filed with the Federal Energy Regulatory Commission (Commission) an amended Interconnection, Interchange and Joint Construction Agreement originally dated August 21, 1968, entered into by MidAmerican's predecessor, Iowa Power and Light Company, with Interstate Power and Light Company's predecessor, Iowa Southern Utilities Company, and amended by First Amendment to the Agreement, dated November 21, 2002.

MidAmerican states it has served a copy of the filing on the Iowa Utilities Board, the Illinois Commerce Commission and the South Dakota Public Utilities Commission.

Comment Date: April 14, 2003.

11. Victory Garden Phase IV Partnership

[Docket No. QF90-43-006]

Take notice that on March 20, 2003, Victory Garden Phase IV Partnership (VGIV) filed with the Federal Energy Regulatory Commission (Commission) an application for recertification of a facility as a qualifying small power production facility pursuant to Section 292.207 of the Commission's regulations. No determination has been made that the submittal constitutes a complete filing. VGIV states that the facility is a 22 MW wind energy generating facility in the Tehachapi Mountains, Kern County, California. VGIV also states that the facility is interconnected with the Southern California Edison Company. VGIV further states that recertification is sought to reflect a change in the upstream ownership of the Facility.

Comment Date: April 21, 2003.

12. Sky River Partnership

[Docket No. QF91-59-007]

Take notice that on March 20, 2003, Sky River Partnership (Sky River) filed with the Federal Energy Regulatory Commission (Commission) an application for recertification of a facility as a qualifying small power production facility pursuant to section 292.207 of the Commission's regulations. No determination has been made that the submittal constitutes a complete filing. Sky River states that the facility is a 77.5 MW wind energy generating facility in the Tehachapi Mountains, Kern County, California. Sky River also states that the facility is interconnected with the Southern California Edison Company. Sky River further states that recertification is sought to reflect a change in the upstream ownership of the Facility.

Comment Date: April 21, 2003.

13. Cabazon Power Partners LLC

[Docket No. QF95-186-006]

Take notice that on March 20, 2003, Cabazon Power Partners LLC (Cabazon) filed with the Federal Energy Regulatory Commission (Commission) an application for recertification of a facility as a qualifying small power production facility pursuant to section 292.207 of the Commission's regulations. No determination has been made that the submittal constitutes a complete filing. Cabazon states that the facility is a 39.75 MW wind energy generating facility in Cabazon, Riverside County, California. Cabazon also states that the facility is interconnected with the Southern California Edison Company. Cabazon further states that recertification is sought to reflect a change in the upstream ownership of the Facility.

Comment Date: April 21, 2003.

14. Victory Garden Power Partners I LLC

[Docket No. QF99-92-002]

Take notice that on March 20, 2003, Victory Garden Power Partners I LLC (VGI) filed with the Federal Energy Regulatory Commission (Commission) an application for recertification of a facility as a qualifying small power production facility pursuant to section 292.207 of the Commission's regulations. No determination has been made that the submittal constitutes a complete filing. VGI states that the facility is a 6.75 MW wind energy generating facility in the Tehachapi Mountains, Kern County, California. VGI also states that the facility is interconnected with the Southern California Edison Company. VGI further states that recertification is sought to reflect a change in the upstream ownership of the Facility.

Comment Date: April 21, 2003.

15. PJM Interconnection, L.L.C.

[Docket No. RT01-2-006]

Take notice that on March 20, 2003, PJM Interconnection, L.L.C. (PJM) tendered for filing with the Federal Energy Regulatory Commission (Commission) in compliance with the Commission's order of December 20, 2002, in the captioned proceeding, 100 FERC ¶ 61,345, (1) revised pages to the Amended and Restated Operating Agreement of PJM Interconnection, L.L.C. and to the PJM Open Access Transmission Tariff, and (2) complete, revised volumes of the PJM Tariff, Operating Agreement, Reliability Assurance Agreement Among Load Serving Entities in the PJM Control Area and the PJM West Reliability Assurance Agreement.

PJM states that copies of this filing, excluding the full revised PJM Tariff, Operating Agreement, RAA and West RAA, have been served on all parties, as well as on all PJM Members and the state electric utility regulatory commissions in the PJM region. PJM states that it will promptly post the complete revised volumes of the PJM Tariff, Operating Agreement, RAA and West RAA on PJM's Web site (http://www.pjm.com) and will deliver a hard copy of any or all of those documents to any person upon request. PJM requests that the Commission waive the service requirements of its Rule 2010(a), 18 CFR 385.2010(a), to the extent necessary to accommodate these arrangements.

Comment Date: April 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-8088 Filed 4-2-03; 8:45 am]

BILLING CODE 6717-01-P